DEPARTMENT OF COMMERCE

International Trade Administration

Advance Notification of Sunset Review; Correction

AGENCY: Enforcement and Compliance, International Trade Administration, Department of Commerce.

SUMMARY: On May 1, 2019, the Department of Commerce (Commerce) published the notice Antidumping or Countervailing Duty Order, Finding, or Suspended Investigation; Advance Notification of Sunset Reviews, (May 1, 2019) (June 2019 Advance Sunset Reviews Notice), in which Commerce inadvertently listed Carbon And Certain Alloy Steel Wire Rod from Brazil (A-351-832) twice and omitted Carbon And Certain Alloy Steel Wire Rod from Mexico (A-201-830). Commerce has also advanced the initiation date of the antidumping and countervailing duty orders on Oil Country Tubular Goods from India (A-533-857; C-533-858), Turkey (A-489-816; C-489-817), Vietnam (A-552-817) and Republic of Korea (A-580-870).

This notice serves to correct the June 2019 Advance Sunset Reviews Notice for the aforementioned items.

DATES: Applicable May 1, 2019.

FOR FURTHER INFORMATION CONTACT: Brenda E. Brown, Office of AD/CVD Operations, Customs and Liaison Unit, Enforcement and Compliance, International Trade Administration, U.S. Department of Commerce, 1401 Constitution Avenue NW, Washington, DC 20230; telephone: (202) 482-4735.

SUPPLEMENTARY INFORMATION: With respect to these Sunset Reviews, Commerce is advancing their initiation from August to June 2019 to coincide with the initiation of the companion Sunset Reviews being conducted by the U.S. International Trade Commission, as well as with Commerce's initiation of the Sunset Review for the companion Ukrainian case (A-823-815), which was already scheduled to be initiated on June 2019.

This correction notice for the advance notification of sunset reviews is being published in accordance with section 751(c) of the Act and 19 CFR 351.218 (c).

Dated: May 23, 2019.
Gary Taverman,
Deputy Assistant Secretary for Antidumping and Countervailing Duty Operations.

[FR Doc. 2019-11398 Filed 5-30-19; 8:45 am]

BILLING CODE 3510-DS-P